CONSUMER PRODUCT SAFETY COMMISSION

[CPSC Docket No. 13-1]

Notice of Telephonic Prehearing Conference

AGENCY: U.S. Consumer Product Safety Commission.

ACTION: Notice.

SUMMARY: Notice of telephonic prehearing conference for the case: In the Matter of BABY MATTERS LLC, CPSC Docket No.13-1.

DATES: January 28, 2013, 11:00 a.m. Eastern.

ADDRESSES: Members of the public are welcome to attend the prehearing conference to be held at the U.S. Customs House, 40 S. Gay Street, 4th Floor, Room 403 (U.S. Coast Guard Administrative Law Judge Courtroom), Baltimore, Maryland 21202.

FOR FURTHER INFORMATION CONTACT: Regina Maye, Paralegal Specialist, U.S. Coast Guard ALJ Program, (212) 825-1230.

SUPPLEMENTARY INFORMATION: Any or all of the following shall be considered during the prehearing conference:

(1) Petitions for leave to intervene;

(2) Motions, including motions for consolidation of proceedings and for certification of class actions;

(3) Identification, simplification and clarification of the issues;

(4) Necessity or desirability of amending the pleadings;

(5) Stipulations and admissions of fact and of the content and authenticity of documents;

(6) Oppositions to notices of depositions;

(7) Motions for protective orders to limit or modify discovery;

(8) Issuance of subpoenas to compel the appearance of witnesses and the production of documents;

(9) Limitation of the number of witnesses, particularly to avoid duplicate expert witnesses;

(10) Matters of which official notice should be taken and matters which may be resolved by reliance upon the laws administered by the Commission or upon the Commission's substantive standards, regulations, and consumer product safety rules;

(11) Disclosure of the names of witnesses and of documents or other physical exhibits which are intended to be introduced into evidence;

(12) Consideration of offers of settlement;

(13) Establishment of a schedule for the exchange of final witness lists, prepared testimony and documents, and for the date, time and place of the hearing, with due regard to the convenience of the parties; and

(14) Such other matters as may aid in the efficient presentation or disposition of the proceedings.

Telephonic conferencing arrangements for the parties will be made by the court. Mary Murphy, Esq. and Kelly Moore, Esq., Counsel for the U.S. Consumer Product Safety Commission, and Raymond G. Mullady, Jr. and Adrien C. Pickard of BLANK ROME, LLP, Counsel for BABY MATTERS LLC shall be provided with a phone number and passcode in a separate notice of pre-hearing conference so they may participate telephonically if they so choose.

Authority: Consumer Product Safety Act, 15 U.S.C. 2064.

Dated: January 4, 2013.
Todd A. Stevenson,
Secretary.

[FR Doc. 2013-00312 Filed 1-9-13; 8:45 am]

BILLING CODE 6355-01-P